FEDERAL COMMUNICATIONS COMMISSION

[GN Docket No. 18-122, DA 20-503; FRS 16776]

Wireless Telecommunications Bureau Announces the Process for Accelerated Relocation Elections by Eligible Space Station Operators in the 3.7-4.2 GHz Band

AGENCY: Federal Communications Commission.

ACTION: Notice.

SUMMARY: In this document, the Wireless Telecommunications Bureau (Bureau) announces the Accelerated Relocation Election Process by which eligible space station operators can commit to relocating existing services in 3.7 GHz band on a two-phased accelerated schedule. In Expanding Flexible Use of the 3.7 to 4.2 GHz Band Report and Order, GN Docket No. 18-122, Report and Order and Order of Proposed Modification, FCC 20-22 (Mar. 3, 2020) (Report and Order), the Commission established a deadline of December 5, 2025, for incumbent space station operators to complete the transition of their operations to the upper 200 megahertz of the band, while providing an opportunity for accelerated clearing of the band by allowing eligible space station operators to commit to relocate voluntarily on a two-phased accelerated schedule. The Report and Order required eligible space station operators committing to accelerated clearing to make their election by May 29, 2020.

DATES: Elections are due on or before May 29, 2020.

ADDRESSES: You may submit elections, identified by GN Docket No. 18-122, by any of the following methods:

Electronic Filers: Elections may be filed electronically using the internet by accessing the ECFS: http://apps.fcc.gov/ecfs/ in docket number GN 18-122.

Paper Filers: Parties who choose to file by paper must file an original and one copy of each filing.

Filings can be sent by commercial overnight courier, or by first-class or overnight U.S. Postal Service mail. All filings must be addressed to the Commission's Secretary, Office of the Secretary, Federal Communications Commission.

Commercial overnight mail (other than U.S. Postal Service Express Mail and Priority Mail) must be sent to 9050 Junction Drive, Annapolis Junction, MD 20701. U.S.

Postal Service first-class, Express, and Priority mail must be addressed to 445 12th Street SW, Washington, DC 20554.

Effective March 19, 2020, and until further notice, the Commission no longer accepts any hand or messenger delivered filings. This is a temporary measure taken to help protect the health and safety of individuals, and to mitigate the transmission of COVID-19. See FCC Announces Closure of FCC Headquarters Open Window and Change in Hand-Delivery Policy, Public Notice, DA 20-304 (March 19, 2020). https://www.fcc.gov/document/fcc-closes-headquarters-open-window-and-changes-hand-delivery-policy.

During the time the Commission's building is closed to the general public and until further notice, if more than one docket or rulemaking number appears in the caption of a proceeding, paper filers need not submit two additional copies for each additional docket or rulemaking number; an original and one copy are sufficient.

FOR FURTHER INFORMATION CONTACT: Becky Tangren, Wireless Telecommunications Bureau, at Becky.Tangren@fcc.gov or 202-418-7178.

SUPPLEMENTARY INFORMATION: This is a summary of the Public Notice, Wireless Telecommunications Bureau Announce the Process for Accelerated Relocation Elections by Eligible Space Station Operators in the 3.7-4.2 GHz Band, GN Docket No. 18-122, DA 20-503 (Public Notice), released on May 11, 2020. The complete text of the Public Notice, is available on the Commission's website at https://www.fcc.gov/document/wtb-announces-accelerated-relocation-election-process-37-ghz-band or by using the search function for GN Docket No. 18-122 on the Commission's ECFS web page at www.fcc.gov/ecfs.

Pursuant to sections 1.415 and 1.419 of the Commission's rules, 47 CFR 1.415, 1.419, interested parties may file elections on or before the date indicated on the first page of this document.

People with Disabilities: To request materials in accessible formats for people with disabilities (braille, large print, electronic files, audio format), send an email to fcc504@fcc.gov or call the Consumer & Governmental Affairs Bureau at 202-418-0530 (voice), 202-418-0432 (tty).

Ex Parte Rules: This proceeding shall be treated as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must: (1) List all persons attending or otherwise participating in the meeting at which the ex parte presentation was made; and (2) summarize all data presented and arguments made during the presentation. If the presentation consisted in whole or in part of the presentation of data or arguments already reflected in the presenters written comments, memoranda, or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with section 1.1206(b) of the Commission's rules. In proceedings governed by section 1.49(f) of the rules or for which the Commission has made available a method of electronic filing, written ex parte presentations and memoranda summarizing oral ex parte presentations, and all attachments thereto, must be filed through the electronic comment filing system available for that proceeding, and must be filed in their native format (e.g., .doc, .xml., .ppt, searchable .pdf). Participants in this proceeding should familiarize themselves with the Commission's ex parte rules.

Synopsis: With this Public Notice, the Wireless Telecommunications Bureau (WTB) announces the process for eligible space station operators to make an Accelerated Relocation Election. On March 3, 2020, the Federal Communications Commission (Commission) released the Expanding Flexible Use of the 3.7 to 4.2 GHz Band Report and Order, which adopted new rules to make 280 megahertz of mid-band spectrum available for flexible use through a Commission-administered public auction of overlay licenses, plus a 20 megahertz guard band, throughout the contiguous United States by transitioning existing services out of the lower portion and in to the upper 200 megahertz of the 3.7-4.2 GHz band (C-band).

The Report and Order established a deadline of December 5, 2025, for incumbent space station operators to complete the transition of their operations to the upper 200 megahertz of the band, while providing an opportunity for accelerated clearing of the band by allowing eligible space station operators to commit to relocate voluntarily on a two-phased accelerated schedule, with a Phase I deadline of December 5, 2021, and a Phase II deadline of December 5, 2023.

The Report and Order required eligible space station operators committing to accelerated clearing to make their election by May 29, 2020 to provide potential bidders with adequate certainty regarding the clearing date and payment obligations associated with each license should they become overlay licensees. The Report and Order detailed the commitments that eligible space station operators must make when filing an Accelerated Relocation Election. By electing accelerated relocation, an eligible space station operator voluntarily commits adhere to the requirements, policies, and procedures established in the Report and Order. Commitments include: paying the administrative costs of the Relocation Payment Clearinghouse until the Commission awards licenses to the winning bidders in the auction, at which time the eligible space station operator will be reimbursed for those administrative costs that it paid; relocating its own services out of the lower 300 megahertz by the Accelerated Relocation Deadlines (both Phase I and Phase II) and taking responsibility for relocating its associated incumbent earth stations by those same deadlines; planning, coordinating, and performing (or contracting for the performance of) all the tasks necessary to migrate any incumbent earth station that receives or sends signals to a space station owned by that operator, whether the satellite service provider is in direct privity of contract with the earth station operator or indirectly through another entity such as a programmer; in short, the space station operator must provide a turnkey solution to the transition; and cooperating in good faith with the Relocation Coordinator and paying all administrative costs of the Relocation Coordinator if it is selected by the committee of electing space station operators.

The Report and Order also described a schedule of decreasing accelerated relocation payments for the six months following each Accelerated Relocation Deadline if an eligible space station operator that commits to accelerated relocation fails to meet its deadline. If an eligible space station operator that commits to accelerated relocation fails to complete the transition within six months of the relevant deadline, its associated accelerated relocation payment will drop to zero.

The Report and Order directed that eligible space station operators that choose to clear on the accelerated timeframe in exchange for an accelerated relocation payment must do so via a written commitment by filing an Accelerated Relocation Election in GN Docket No. 18-122. Such elections are public and irrevocable. Pursuant to the Report and Order, WTB prescribes the following format for filing an Accelerated Relocation Election: The election must state that the eligible space station operator elects to perform an accelerated relocation, understands and accepts the commitments made when filing an Accelerated Relocation Election, and understands and accepts the reduction in payments for missing deadlines as outlined in the Report and Order. The election must be signed by a company officer of the eligible space station operator with authority to bind the company. The election must acknowledge the Commission's authority to adopt the accelerated relocation payment and the reduction in payments for missing deadlines. The election must acknowledge that sufficient eligible space station operators must elect accelerated relocation such that at least 80% of the total possible accelerated relocation payments are accepted for the Commission to accept elections and require overlay licensees to pay accelerated relocation payments.

The information collection requirements were approved by OMB on May 5, 2020 under OMB control number 3060-1272.

If an eligible space station operator elects not to make an Accelerated Relocation Election, that operator will forfeit its eligibility to receive accelerated relocation payments, even if it completes all tasks by the Accelerated Relocation Deadlines and files a Certification of Accelerated Relocation.

Federal Communications Commission.
Katherine Harris,
Deputy Chief, Mobility Division, Wireless Telecommunications Bureau.

[FR Doc. 2020-11004 Filed 5-20-20; 8:45 am]

BILLING CODE 6712-01-P